DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains in the possession of the American Museum of Natural History, New York, NY. The human remains were collected from Grays Harbor County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the American Museum of Natural History professional staff in consultation with representatives of the Quinault Tribe of the Quinault Reservation, Washington.

In 1899, human remains representing a minimum of one individual were collected by Harlan I. Smith from the surface, one-half mile beyond the Copalis River, Grays Harbor County, WA, and were acquired by the American Museum of Natural History the same year. No known individual was identified. No associated funerary objects are present.

The individual has been identified as Native American based on the presence of cranial deformation. Museum documentation identifies the human remains as “probably recent.” Geographic location is consistent with the postcontact territory of the Copalis band of the Quinault Tribe of the Quinault Reservation, Washington.

In 1899, human remains representing a minimum of one individual were collected by Harlan I. Smith from north of the mouth of the Copalis River in Grays Harbor County, WA, and were acquired by the American Museum of Natural History the same year. No known individual was identified. No associated funerary objects are present.

The individual has been identified as Native American based on the type of burial and the presence of cranial deformation. The human remains were found on the surface, under cedar boards that presumably formed a grave house. Based on the presence of preserved wood, the human remains appear to be postcontact in age. Burial in a grave house is consistent with postcontact Quinault burial practices. Geographic location is consistent with the postcontact territory of the Copalis band of the Quinault Tribe of the Quinault Reservation, Washington.

Officials of the American Museum of Natural History have determined that, pursuant to 25 U.S.C. 3001 (9-10), the human remains described above represent the physical remains of a minimum of two individuals of Native American ancestry. Officials of the American Museum of Natural History also have determined that, pursuant to 25 U.S.C. 3001 (2), there is a relationship of shared group identity that can be reasonably traced between the Native American human remains and the Quinault Tribe of the Quinault Reservation, Washington.

Representatives of any other Indian tribe that believes itself to be culturally affiliated with the human remains should contact Nell Murphy, Director of Cultural Resources, American Museum of Natural History, Central Park West at 79th Street, New York, NY 10024-5192, telephone (212) 769-5837, before September 29, 2006. Repatriation of the human remains to the Quinault Tribe of the Quinault Reservation, Washington may proceed after that date if no additional claimants come forward.

The American Museum of Natural History is responsible for notifying the Quinault Tribe of the Quinault Reservation, Washington that this notice has been published.

Dated: August 16, 2006.
Sherry Hutt,
Manager, National NAGPRA Program

[FR Doc. E6-14473 Filed 8-29-06; 8:45 am]

BILLING CODE 4312-50-S